DEPARTMENT OF THE INTERIOR

Bureau of Indian Affairs

[234A2100DD/AABB003600/A0T902020.999900]

Otoe-Missouria Tribe of Indians Liquor Control Ordinance of 2022; Repeal and Replace

AGENCY: Bureau of Indian Affairs, Interior.

ACTION: Notice.

SUMMARY: This notice publishes the Otoe-Missouria Tribe of Indians Liquor Control Ordinance of 2022. The Ordinance certifies the Otoe-Missouria Tribe of Indians liquor licensing laws to regulate and control the possession, sale and consumption of liquor within the jurisdiction of the Otoe-Missouria Tribe of Indians.

DATES: This will take effect on August 24, 2023.

FOR FURTHER INFORMATION CONTACT: Ms. Sherry Lovin, Tribal Government Services Officer, Southern Plains Regional Office, Bureau of Indian Affairs, P.O. Box 368, Anadarko, Oklahoma 73005, Phone: (405) 247-6673; Fax: (405) 247-2242.

SUPPLEMENTARY INFORMATION: Pursuant to the Act of August 15, 1953, Public Law 83-277, 67 Stat. 586, 18 U.S.C. 1161, as interpreted by the Supreme Court in Rice v. Rehner, 463 U.S. 713 (1983), the Secretary of the Interior shall certify and publish in the Federal Register notice of adopted liquor ordinances for the purpose of regulating liquor transactions in Indian country.

This notice is published in accordance with the authority delegated by the Secretary of the Interior to the Assistant Secretary-Indian Affairs. I certify that the Otoe-Missouria Tribe of Indians adopted Resolution Number OMTC # 0706130 FY 2022 (A Resolution Repealing the Otoe-Missouria Tribal Council Liquor Ordinance, Resolution Number OMTC # 43-FY-00 and replacing it with the Otoe-Missouria Tribe of Indians Liquor Control Ordinance of 2022) on July 6, 2022. The statute repeals and replaces the previous Otoe-Missouria Tribe of Oklahoma Liquor Control Ordinance published in the Federal Register on December 26, 2000 (65 FR 81541).

Bryan Newland,
Assistant Secretary—Indian Affairs.

Otoe-Missouria Tribe of Indians Liquor Control Ordinance of 2022

A law to authorize and regulate liquor transactions within the jurisdiction of the Otoe-Missouria Tribe of Indians.

Part 1. General Provisions

Section 1

Authority: Enacted by the Tribal Council of the Otoe-Missouria Tribe of Indians (“Tribal Council”) on July 6, 2022 by OMTC # 0706130 FY 2022. This Ordinance is enacted pursuant to federal statutes and other laws, including the Act of August 15, 1953, 67 Stat. 586, codified at 18 U.S.C. 1161, and in conformity with applicable laws of the State of Oklahoma (“State”).

Section 2

Purpose: The Tribal Council, as the governing body of the Otoe-Missouria Tribe of Indians (“Tribe”) hereby enacts this Ordinance to authorize and regulate Liquor Transactions within the Tribal Lands.

Section 3

Policy: The authorization and regulation of Liquor Transactions is necessary to encourage economic development, improve the Tribe's economic situation, and generate revenue for the Tribe, which may be used to provide basic governmental functions for its members.

Section 4

Sovereign Immunity: Unless otherwise specified in this Ordinance, all inherent sovereign rights of the Tribe are hereby expressly reserved, including sovereign immunity from suit in any state, federal or tribal court.

Section 5

Jurisdiction: This Ordinance shall apply to all members of the Tribe, any person engaged in Liquor Transactions within the Tribal Lands, and all employees of a person conducting Liquor Transactions within the jurisdiction of the Tribe.

Section 6

General Prohibition: It shall be a violation of laws of the Tribe to manufacture, sell, store, transport, or conduct any Liquor Transactions except in compliance with the terms, conditions, limitations, and restrictions specified in this Ordinance.

Section 7

Tribal Control of Liquor: The Tribe has the sole and exclusive right to authorize the Manufacture of liquor, including distilleries, breweries, wineries, cideries and bottling, within or importation of alcoholic beverages into the Tribal Lands for sale or for the purpose of conducting transactions therewith, and no person or organization may manufacture such alcoholic beverages within or import any such alcoholic beverages into the Tribal Lands unless authorized by the Tribe to do so.

Section 8

Applicability of State Law: Except as may be otherwise authorized by agreement between the Tribe and the State, the Tribe and its agents shall act in conformity with the Oklahoma's laws regarding the Sale of Liquor to the extent required by applicable federal law, including 18 U.S.C. 1161.

Section 9

Power to License and Tax: The power to establish licenses and levy taxes under the provisions of this Ordinance is vested exclusively with the Tribe.

Section 10

Severability: If any section of this Ordinance is invalidated by a court of competent jurisdiction, the remaining sections shall not be affected thereby.

Section 11

Definitions

Alcohol means the product of distillation of any fermented liquid, whether rectified or diluted, whatever the origin, and includes synthetic ethyl alcohol and alcohol processed or sold in a gaseous form but excludes denatured alcohol or wood alcohol.

Beer means any beverage obtained by the alcoholic fermentation of an infusion or decoction of pure hops, or pure extract of hops and pure barley malt or other wholesome grain or cereal in pure water and includes, but is not limited to, beer, ale, malt liquor, stout, lager beer, porter, near beer, flavored malt beverage, and hard cider.

Board means the Otoe-Missouria Liquor Control Board.

Commissioners means a member of the Board.

Brewer means any person engaged in the business of manufacturing beer.

Consume means knowingly and intentionally drinking or otherwise ingesting.

Distiller means any person engaged in the business of distilling or manufacturing spirits.

Distribute means to acquire, purchase, store, introduce, import, export, sell, offer for sale, deliver, transport, give away, offer to give away, or otherwise possess liquor for resale or further processing, or otherwise introduce, import, export, sell, resell, offer for sale or resale, deliver or transport.

Key Participant means high-level employees of a licensee such as executives and management or any person has at least 10% ownership interest in the licensee's business.

Liquor means Alcohol, Beer, spirits, wine, all other fermented, spirituous, vinous, or malt liquors, or combinations thereof and mixed liquor, a part of which is fermented, spiritous, vinous, malt liquor, or otherwise intoxicating and includes every liquid, solid, semi-solid, or other substance, patented or containing alcohol, beer, spirits, or wine and all preparations or mixtures of liquor capable of human consumption.

Liquor Transactions means the conducting authorized by this Ordinance which includes manufacturing, retail sales, and wholesale.

Manufacturer means any person engaged in the manufacture or other preparation of liquor in any form whatsoever, including brewers, distillers, and wineries, but does not include the mixing or other preparation of drinks for consumption on the premises where sold, sampled, or given away.

Onsite Consumption means the sale of liquor for consumption upon the premises were sold and includes the mixing or other preparation of drinks for serving for consumption on the premises where sold.

Retailer means any sale made for any purpose other than for resale or further processing.

Sale means the transfer of ownership of title to, or possession of goods for money, other goods, services, or other valuable consideration, including bartering, trading, exchanging, renting, leasing, conditional sales, and any sale where possession of goods is given to the buyer, but title is retained by the seller as security for the payment of the purchase price.

Spirits means any beverage which contains alcohol obtained by distillation, whether mixed with water or other substance in solution, and includes brandy, rum, whiskey, gin, or other spiritous liquors and such liquors when rectified, blended, or otherwise mixed with alcohol or other substances.

Tribal Lands means all lands held in trust by the United States for the benefit of the Tribe; and all lands of the Tribe defined as Indian country by 18 U.S.C. 1151, including dependent Indian communities.

Wholesaler means any person who distributes or is engaged in the distribution of Liquor.

Wine means any alcoholic beverage obtained by fermentation of fruits, vegetables, or other agricultural products containing sugar, including such beverages when fortified by the addition of alcohol or spirits.

Winery means any person engaged in the business of producing or manufacturing wine.

Section 12

Effective Date: This Ordinance shall become effective upon the date that the Secretary of Interior certifies the Ordinance and publishes it in the Federal Register.

Part 2. Otoe-Missouria Liquor Control Board

Section 1

Establishment

1.1 Governmental Subdivision: The Tribal Council hereby establishes the Otoe-Missouria Liquor Control Board (“Board”) as a governmental subdivision of the Tribe, charged with implementation of this Ordinance and regulation over Liquor Transactions.

1.2 Place of Business. The Board shall maintain its headquarters and principal place of business within Tribal offices.

1.3 Duration: The Board shall have perpetual existence in its own name, unless dissolved by the Tribal Council.

1.4 Arm of the Tribe: In carrying out its purposes under this Ordinance, the Board shall function as a governmental instrumentality and as an arm of the Tribe. Notwithstanding any authority delegated to the Board under this Ordinance, the Tribe reserves to itself the right to bring suit against any person or entity in its own right, on behalf of the Tribe or on behalf of the Board, whenever the Tribe deems it necessary to protect the sovereignty, rights and interests of the Tribe or the Board.

1.5 Sovereign Immunity of the Board: As a governmental subdivision of the Tribe, all inherent sovereign rights of the Tribe are hereby expressly extended to the Board and reserved, including sovereign immunity from suit in any state, federal or tribal court.

1.6 Board Membership: The Board is comprised of one (1) Chairperson and up to two (2) Boarders. The Chairperson and Boarder are collectively referred to as the Commissioners.

1.7 Quorum: All questions requiring action of the Board must be determined by a majority vote of the Commissioners at a meeting where a quorum of at least two (2) Commissioners are present.

1.8 Appointment: The Commissioners must be appointed by the Tribal Council and confirmed at any Tribal Council meeting.

1.9 Term: The Tribal Council may appoint any Commissioner to serve up to three (3) years. Commissioners may be reappointed without limitation.

1.10 Compensation: Commissioners will be compensated at a rate set by the Tribal Council. To ensure the Board is not improperly influenced, Commissioner's compensation shall not be based on a percentage of revenue derived from the activities authorized and regulated under this Ordinance.

1.11 Qualifications: To be eligible to serve on the Board, any person appointed as a Commissioner shall:

(a) be an enrolled member of the Tribe, the spouse of an enrolled member of the Tribe, or the parent of an enrolled member of the Tribe.

(b) have expertise, experience, education or a combination thereof in regulation of Liquor Transactions pursuant to this Ordinance;

(c) be at least twenty-one (21) years of age and show proof of High School Diploma or equivalent; and

(d) not be eligible for appointment as a Commissioner if:

i. the person's prior activities, criminal record if any, credit history or reputation, habits, or associations:

1. poses a threat to the public interest;

2. threatens the effective regulation and control of the activities authorized and regulated under this Ordinance or the public's confidence in said regulation; or

3. enhances the dangers of unsuitable, unfair or illegal practices, methods, or activities in the conduct authorized and regulated by this Ordinance.

ii. been convicted of or entered a plea of no contest to any felony in the five (5) years prior to appointment unless pardoned and fully restored of his or her civil rights by the proper authorities prior to appointment; or

iii. who has, or whose spouse, significant other, parent, child or sibling has, an ownership, partnership, or other direct monetary or financial interest in the activities authorized and regulated under the Ordinance.

Section 2

Powers

2.1 Regulations: The Board may promulgate regulations:

(a) to establish procedures designed to detect irregularities or fraud;

(b) to design a regulatory system to oversee Liquor Transactions;

(c) to collaborate and cooperate with such other agencies of the Tribe, other tribes, the United States, and state governments as necessary to implement and enforce this Ordinance;

(d) to establish procedures governing the conduct of inspections, investigations, hearings and enforcement actions; or

(e) promulgate any other regulations to ensure compliance with this Ordinance.

2.2 Investigations: The Board may inspect the premises where Liquor Transactions is taking place. In undertaking such investigations, the Board may:

(a) request assistance of federal or local law enforcement, legal counsel and/or other third parties;

(b) during normal business hours, may reasonably enter upon premises to examine accounts, books, papers and documents;

(c) make any request or inquiry for information or documents of any person engaged in Liquor Transactions;

(d) require the presence of any person and require testimony under oath concerning the subject matter of any inquiry of the Board, and to make a permanent record of the proceeding; or

(e) conduct any investigation to determine compliance with this Ordinance.

Section 3

Duties

3.1 Annual Budget: The Board shall prepare an annual operating budget and present it to the Tribal Council no less than thirty (30) days prior to the commencement of each operating year.

3.2 Licensing: The Board shall:

(a) require a license of each business or entity engaged in manufacturing, wholesale, retail, and/or onsite consumption as authorized by this Ordinance;

(b) establish business applications, which at a minimum shall include:

i. the names of all Key Participants;

ii. list of all licenses related to liquor transactions for which applicant has ever applied to the Board or any other tribal, state, federal or local government, and indication of whether such licenses were issued;

iii. disclosure of any liquor transaction related licenses that have been denied or revoked;

iv. sworn statement that applicant agrees a license is a revocable privilege and not a right;

v. sworn statement that applicant acknowledges the license may not be sold, assigned or transferred;

vi. sworn statement that applicant's Key Participants shall seek and maintain a license with the Board;

vii. sworn statement that applicant will submit to the jurisdiction of the Tribe; and

viii. an application fee as set by the Board.

(c) conduct a due diligence investigation of the applicant to sufficiently allow the Board to make an eligibility determination on whether a license should be issued, which shall be completed within sixty (60) days of receipt of the application or automatically be deemed a denial;

(d) approve applications if Board determines the following criteria is met:

i. applicant complied with all Board requirements; and

ii. the liquor transactions applicant intends to conduct are authorized by this Ordinance.

(e) deny applications if Board determines the applicant has not complied with all requirements of the laws of the Tribe, applicable State liquor laws, or applicable federal laws and:

i. immediately suspend any temporary license previously issued;

ii. provide written notice of ineligibility to receive a license; and

iii. provide the applicant with the option to request a hearing on the denial, which shall follow the procedures at Part 7, Section 2.2.

(f) for applicant's that are determined eligible for a license under this Section, issue a license that at a minimum shall include:

i. licensee name;

ii. license classification (i.e., manufacture, wholesale, retail);

iii. location of licensed facility;

iv. Tribe's logo;

v. issue date; and

vi. license number.

(g) maintain records of all license applicants and licensees, including applications, background investigation reports, and eligibility determination reports for no less than five (5) year.

3.3 Key Participant Licensing: The Board shall:

(a) require a license for all Key Participants of any licensee;

(b) establish applications for Key Participants which at a minimum shall include:

i. full name, other names used (oral or written), social security number, birth date, place of birth, citizenship, gender, and all languages spoken or written;

ii. currently, and for the previous five (5) years, business and employment positions held, ownership interests in those business, business and residential addresses, and driver's licenses (number, date of issuance and expiration);

iii. current business and residential telephone numbers, and all cell phone numbers, personal and business;

iv. a description of any existing and previous business relationships with Consumer Financial Services generally, including ownership interest in those businesses;

v. the name and address of any licensing or regulatory agency with which the person has filed an application for a license or permit related to lending, whether or not such license or permit was granted;

vi. for each criminal charge, felony or misdemeanor: whether or not there is a conviction, if such criminal charge is within the last five (5) years of the date of application, a description of the criminal charge, the name and address of the court involved, and the date of disposition, if any; and

vii. any other information the Board deems relevant.

(c) conduct background investigations for each Key Participant applicant to sufficiently allow the Board to make an eligibility determination on whether a license should be issued, which background investigation shall be completed within sixty (60) days of receipt of the application or shall automatically be deemed a denial, and at a minimum should include an inquiry of:

i. criminal history through background checks;

ii. civil history; and

iii. personal credit check.

(d) create and maintain an investigative report for each background investigation of a Key Participant applicant, which at a minimum shall include:

i. steps taken to investigate or verify the contents of the applications; and

ii. results and conclusions.

(e) make a determination of suitability on whether to issue a license. The Board shall not issue a license if the applicant's prior activities, criminal record if any, credit history or reputation, habits, or associations:

i. poses a threat to the public interest;

ii. threatens the effective regulation and control of the activities authorized and regulated under this Ordinance or the public's confidence in said regulation;

iii. enhances the dangers of unsuitable, unfair or illegal practices, methods, or activities in the conduct authorized and regulated by this Ordinance;

iv. has been convicted of or plead guilty to a felony or any criminal offense related to liquor in any jurisdiction other than driving while intoxicated or under the influence of liquor; or

v. has had a liquor license revoked in any jurisdiction in the previous two (2) years.

(f) if the applicant is not eligible for a license, the Board shall:

i. immediately suspend any temporary license previously issued;

ii. provide written notice of ineligibility to receive a license; and

iii. provide the applicant with the option to request a hearing on the denial, which shall follow the procedures at Part 7, Section 2.2.

(g) for applicant's that are determined eligible for a license under this Section, issue a Key Participant license that at a minimum shall include:

i. Key Employee name;

ii. Tribe's logo;

iii. issue date; and

iv. license number;

(h) maintain records of all applicants and licensees, including applications, background investigation reports, and eligibility determination reports for no less than five (5) years.

3.4 Meetings: The Board shall meet regularly as necessary to timely discharge their duties under the Ordinance.

3.5 Reports to Tribal Council: The Board shall meet with the Tribal Council quarterly. The Board shall file a quarterly report with the Tribal Council reporting on monthly activities of the Board's oversight of persons licensed and regulated under the Ordinance.

3.6 Enforcement: The Board shall have jurisdiction over any violations of this Ordinance or violations of State liquor laws and may suspend or revoke licenses, and impose civil penalties and fines over any person, in accordance with the procedures at Part 7 of this Ordinance.

3.7 Records: The Board shall create and maintain accurate and complete records which contain information and documents necessary for the proper and efficient operation of the Board, including, but not limited to:

(a) all licenses issued and any fees received for the same;

(b) all fees and penalties imposed, due, and collected; and

(c) every official action of the Board.

Section 4

Prohibited Acts: The Board may not:

(a) waive sovereign immunity of the Board or the Tribe without receiving written approval from the Tribal Council; or

(b) make business decisions for a licensed entity under this Ordinance.

Part 3. Manufacturer License

Section 1

License Required: A person may not engage in brewing, distilling, bottling, or otherwise manufacturing liquor unless said Person has received a license from the Board.

Section 2

Term: The Manufacturer license is valid for a term of one (1) year.

Section 3

Covered Liquor Transactions: A Manufacture license allows, without the requirement of any other license: the manufacture, distilling, brewing, bottling, and storage of Liquor on Tribal Lands; the purchase of Liquor for purposes of bottling and wholesale distribution; and the wholesale distribution of Liquor brewed, distilled, bottled, or otherwise manufactured on Tribal Lands.

Section 4

Exemptions: Manufacturer license holders engaged in wholesale Liquor Transactions are exempt from obtaining a Wholesaler license under Part 4 of this Ordinance, but is still required to comply with all applicable obligations of a Wholesaler licensee.

Part 4. Wholesaler License

Section 1

License Required: A person may not distribute Liquor from a location on Tribal Lands or store Liquor on Tribal Lands for the purposes or intent of distributing such liquor, unless said person has received a Wholesaler license from the Board.

Section 2

Term: The Wholesaler license is valid for a term of three (3) years.

Section 3

Covered Liquor Transactions: A Wholesaler license allows, without the requirement of any other license, the distribution of Liquor on or from the location on Tribal Lands designated in the Wholesaler license.

Part 5. Retailer License

Section 1

License Required: A person may not engage in retail Sale of Liquor from a location on Tribal Lands unless said person has received a Retailer license from the Board.

Section 2

Term: The Retailer license is valid for a term of one (1) year.

Section 3

Covered Liquor Transactions: A Retailer license allows, without the requirement of any other license: the purchase of liquor from a wholesaler for retail Sale; the Sale at retail and offering for sale at retail on the premises of the Retailer specified in the Retailer license for use of consumption but not for resale in any form; and if the Retailer license permits On Premises, the Consumption of Liquor, including sampling on the premises of the Retailer by customers of the Retailer.

Part 6. Licensee Obligations

Section 1

Licensee Duties: All licensees shall:

(a) at all times comply with this Ordinance, rules and regulations promulgated pursuant to this Ordinance, and all other applicable Tribal laws, State liquor laws, and applicable federal laws;

(b) provide the Board written notice of a material change, including but not limited to, company name, address, management, bankruptcy, reorganization, complaints or felony convictions against Key Participant licensees, not later than ten (10) days after the change occurs;

(c) establish sanitation, security, and other related policies that comply with the Ordinance, Tribal and federal laws, and transmit current copies to the Board when revised;

(d) post license in all physical locations where the business is transacted;

(e) preserve records of the purchase and sale of Liquor, including books of account, invoices, and bills for a period of two (2) years;

(f) provide the Board access to investigate books, accounts and records;

(g) submit monthly reports with details as required by the Board;

(h) submit annual reports to the Board which at a minimum shall include:

i. name, address and contact information for licensee and Key Participants;

ii. description of Liquor Transactions conducted;

iii. sworn statement licensee has complied with Tribal laws, applicable State liquor laws, and federal laws; and

iv. the name and signature of agent who will accept service of process on behalf of the licensee;

(i) conduct internal audits to ensure compliance with Tribal laws, applicable State liquor laws and federal laws, and submit the results to the Board.

Section 2

Prohibited Acts: Licensees may not:

(a) reseal, reuse, or refill any package that contains or contained liquor;

(b) lock, or permit the locking of, the entrances to the licensed premises until all persons other than the licensee and its employees have left.

(c) change the name of its licensed premises without first obtaining a modification of its license;

(d) allow loitering by intoxicated persons, rowdiness, undue noise, or any other disturbance offensive to the residents near the location of the licensee;

(e) engage in Liquor Transactions in violation of this Ordinance, State liquor laws, or applicable federal laws; or

(f) fail to pay taxes assessed against it under the laws of the Tribe.

Part 7. Enforcement and Hearings

Section 1

Ordinance Enforcement: Except as provided otherwise in this Ordinance, the Board shall have jurisdiction over all persons violating the Ordinance within the jurisdiction of the Tribe.

Section 2

License Denial, Suspension or Revocation

2.1 Grounds for Denial, Suspension, or Revocation: The Board shall deny an applicant or suspend or revoke a license if the Board finds any person:

(a) failed to pay license application fee to Board;

(b) made a material misstatement or omission on the application or any document submitted to the Board;

(c) withheld or provided incomplete or insufficient pertinent information;

(d) refused to comply with any lawful order, inquiry, directive of the Board, or the Tribal Council;

(e) violated this Ordinance or the rules and regulations of the Board;

(f) aided another or conspired to violate this Ordinance or the rules and regulations of the Board;

(g) engaged in Liquor Transactions not authorized by this Ordinance;

(h) knowingly falsified books or records;

(i) failed to keep sufficient books or records for the Board to determine compliance with Tribal laws, applicable State liquor laws, and federal law;

(j) has had an order entered against them by an administrative agency of any jurisdiction and the order is based on conduct involving fraud, deceit or misrepresentation;

(k) has had a financial order entered against them in a civil action based on conduct involving fraud, deceit or misrepresentation;

(l) attempted to bribe or offer something of value to any person, Tribal Council member, or a Commissioner in attempt to receive favorable treatment under the Ordinance, or applicable Tribal or federal law;

(m) poses a threat to the public interest or the effective regulation of Liquor Transactions;

(n) creates or enhances the danger of unsuitable, unfair, or illegal practices and methods and activities related to Liquor Transactions;

(o) was a former licensee pursuant to this Ordinance whose license was suspended and not reinstated, or revoked;

(p) was not eligible for licensure for any of the reasons identified at Part 2, Section 3.2(e) and Part 2, Section 3.3(e).

2.2 Procedure for Denial: When issuing a denial of a license application, the Board shall:

(a) provide written notice of the ineligibility to receive a license, which shall state the reasons for the denial; and

(b) provide the applicant with the option to request a hearing on the decision, which shall follow the procedures at Part 7, Section 2.6.

2.3 Procedure for Suspension or Revocation: Upon reasonable basis for belief that a licensee has violated the Ordinance, the Board shall either undertake an investigation of the person under Part 7, Section 2.4, or immediately issue a notice of violation under Part 7, Section 2.5.

2.4 Investigation: The Board may investigate and examine the operation and premises of any person within its jurisdiction in accordance with Part 2, Section 2.2:

(a) upon complaint;

(b) upon its own initiative when there is a reasonable basis for belief there has been a violation of the Ordinance;

(c) or whenever necessary to perform its duties and exercise its powers under the Ordinance.

2.5 Notice of Violation: The Board may serve any notice of violation to a licensee or Key Participant explaining the basis and the aggrieved party's right to request a hearing, which request shall be in writing and made within ten (10) days of receipt of the notice.

2.6 Hearings; Notice; Due Process; Arbiter; Appeals:

(a) within ten (10) days after receiving a request for a hearing, the Board shall schedule a hearing and issue a notice identifying the issues to be resolved, and the date, time and location of the hearing, which shall be set no sooner than five (5) days after receipt of the request for a hearing but no later than sixty (60) days after receipt of request for a hearing;

(b) at the hearing, the affected parties shall be provided the opportunity to present oral or written testimony and other evidence to dispute the violation;

(c) the Board may promulgate rules governing the hearing procedures;

(d) the Chairman of the Board will preside over the hearing;

(e)the Board shall issue a written decision within thirty (30) days after the hearing; and

(f) affected parties may appeal the Board's decision by filing a written appeal to the Tribal Council within twenty (20) days of receiving the Board's final written decision, which shall be placed on the Tribal Council's agenda at its earliest convenience but no later than sixty (60) days after the notice of appeal is filed, which decision of the tribal Council on appeal shall be final and is not subject to further appeal.

Section 3

Cease and Desist Orders for Unlicensed Persons: For any person violating the Ordinance, a person who does not hold a valid license, or there is reasonable cause that any applicable law is being violated, the Board shall issue a cease and desist order. Any Person who does not comply with the cease and desist order will be subject to further enforcement action under Part 7, Section 4.

Section 4

Civil Penalties

4.1 Fines for Civil Violations: Any person who fails to comply with a final order of the Board or Tribal Council under Part 7, Section 2, or a cease and desist order issued pursuant to Part 7, Section 3, may be required to pay a civil fine to the Board pursuant to regulations. For purposes of this section, multiple violations originating from the same act or omission will be treated as one violation for purposes of assessing civil fines.

4.2 Civil Action for Penalties: In enforcing fines and violations under this Section, the Board may proceed in the name of the Tribe against a person by filing civil complaint in a court of competent jurisdiction.

[FR Doc. 2023-15724 Filed 7-24-23; 8:45 am]

BILLING CODE 4337-15-P